DEPARTMENT OF LABOR

Employee Benefits Security Administration

121st Full Meeting of the Advisory Council on Employee Welfare and Pension Benefit Plans; Notice of Meeting

Pursuant to the authority contained in section 512 of the Employee Retirement Income Security Act of 1974 (ERISA), 29 U.S.C. 1142, the 121st open meeting of the full advisory Council on Employee Welfare and Pension Benefit Plans will be held May 9, 2003, in Room S-2508, U.S. Department of Labor Building, 200 Constitution Avenue, NW., Washington, DC 20210.

The purpose of the meeting, which will begin at 11:15 a.m. and end at approximately 3:30 p.m., is to consider the items listed below:

I. Welcome, Introduction and Swearing In of New Council Members by Secretary of Labor.

II. Remarks by Secretary.

III. Report from the Assistant Secretary of Labor for the Employee Benefits Security Administration (EBSA).

IV. Introduction of EBSA Senior Staff.

The Advisory Council will reconvene at 1:15 p.m. at which time members will conclude the session with:

V. Summaries of the 2002 Final Reports Made by Advisory Council Working Groups.

VI. Determination of Topics to Be Addressed by Council Working Groups for 2003.

VII. Statements from the General Public.

Members of the public are encouraged to file a written statement pertaining to any topics the Council may consider studying for the year concerning ERISA by submitting 20 copies on or before May 2, 2003, to Sharon Morrissey, Executive Secretary, ERISA Advisory Council, U.S. Department of Labor, Suite N-5677, 200 Constitution Avenue, NW., Washington, DC 20210. Individuals or representatives of organizations wishing to address the Advisory Council should forward their requests to the Executive Secretary or telephone (202) 693-8668. Oral presentations will be limited to 10 minutes, time permitting, but an extended statement may be submitted for the record. Individuals with disabilities who need special accommodations should contact Sharon Morrissey by May 2 at the address indicated.

Organizations or individuals may also submit statements for the record without testifying. Twenty (20) copies of such statements should be sent to the Executive Secretary of the Advisory Council at the above address. Papers will be accepted and included in the record of the meeting if received on or before May 2, 2003.

Signed in Washington, DC, this 18th day of April, 2003.
Ann L. Combs,
Assistant Secretary, Employee Benefits Security Administration.

[FR Doc. 03-10126 Filed 4-23-03; 8:45 am]

BILLING CODE 4510-29-M